DEPARTMENT OF HOMELAND SECURITY

Federal Emergency Management Agency

[Docket ID: FEMA-2023-0031; OMB No. 1660-NW157]

Agency Information Collection Activities: Proposed Collection, Comment Request; Generic Clearance for Hazard Mitigation Assistance Programs

AGENCY: Federal Emergency Management Agency, Department of Homeland Security.

ACTION: 60-Day notice of new collection and request for comments.

SUMMARY: The Federal Emergency Management Agency (FEMA), as part of its continuing effort to reduce paperwork and respondent burden, invites the general public to take this opportunity to comment on a new information collection. In accordance with the requirements of the Paperwork Reduction Act of 1995, this notice seeks comments concerning a new generic information collection allowing FEMA to individually update instruments needed to provide financial, non-financial, program management, and technical assistance for FEMA's major disaster, emergency response, emergency recovery, and hazard mitigation activities.

DATES: Comments must be submitted on or before February 9, 2024.

ADDRESSES: To avoid duplicate submissions to the docket, please submit comments at http://www.regulations.gov under Docket ID FEMA-2023-0031. Follow the instructions for submitting comments.

All submissions received must include the Agency name and Docket ID. Regardless of the method used to submitting comments or material, all submissions will be posted, without change, to the Federal eRulemaking Portal at http://www.regulations.gov, and will include any personal information you provide. Therefore, submitting this information makes it public. You may wish to read the Privacy and Security Notice that is available via a link on the homepage of http://www.regulations.gov.

FOR FURTHER INFORMATION CONTACT: Jennie Orenstein, Branch Chief, FEMA's Federal Insurance and Mitigation Administration's Policy, Tools and Training Branch, at jennie.gallardy@fema.dhs.gov or (202) 212-4071. You may contact the Information Management Division for copies of the proposed collection of information at email address: FEMA-Information-Collections-Management@fema.dhs.gov.

SUPPLEMENTARY INFORMATION: The Robert T. Stafford Disaster Relief and Emergency Assistance Act (Pub. L. 93-288, as amended), 42 U.S.C. 5121-5207 (Stafford Act) provides broad authority to FEMA for disaster and emergency relief operations, reducing risk to people and property from hazards, and related activities and operations. The Stafford Act authorizes FEMA to provide financial and technical assistance to assist state, local, territorial, and Tribal (SLTT) governments and certain private non-profit (PNP) entities with the response to and recovery from Presidentially declared major disasters and emergencies, and the implementation of hazard mitigation measures and related activities that reduce or eliminate long-term risk to people and property from hazards and their effects.

The National Flood Insurance Act of 1968 (“NFIA”), as amended, and the Flood Disaster Protection Act of 1973, as amended (42 U.S.C. 4001, et. seq.) authorize FEMA's National Flood Insurance Program (NFIP), including a wide range of related activities. For instance, the NFIA authorizes FEMA to provide financial assistance for planning and carrying out projects and activities designed to reduce the risk of flood damage to NFIP-insured structures.

FEMA routinely receives additional guidance from Congress, through new legislation, and the President, through Executive Orders, that requires changes to previously approved collection instruments in a few months to provide timely assistance to survivors. FEMA is proposing moving instruments from currently approved information collections into this new generic information collection to provide the necessary flexibility to update individual existing instruments and create new instruments as new guidance from Congress and the President is received, deliver timely assistance to survivors (both before and after a disaster), and maintain compliance with the Paperwork Reduction Act.

Collection of Information

Title: Generic Clearance for Hazard Mitigation Assistance Programs.

Type of Information Collection: New information collection.

OMB Number: 1660-NW157.

FEMA Forms: Not Applicable.

Abstract: The Stafford Act authorizes FEMA to provide financial, non-financial, program management and technical assistance to state, local, territorial, and Tribal (SLTT) governments and certain private non-profit (PNP) entities with the response to and recovery from Presidentially declared major disasters and emergencies, and the implementation of hazard mitigation measures and related activities that reduce or eliminate long-term risk to people and property from hazards and their effects. The information collected is required for FEMA's Hazard Mitigation Assistance (HMA) programs, the Revolving Loan Fund capitalization program, and the Public Assistance (PA) Program, for ongoing program implementation and optimization.

Affected Public: State, Local, or Tribal Governments; Private, Non-Profits.

Estimated Number of Respondents: 671,356.

Estimated Number of Responses: 671,356.

Estimated Total Annual Burden Hours: 633,775.

Estimated Total Annual Respondent Cost: $39,908,812.

Estimated Respondents' Operation and Maintenance Costs: $0.

Estimated Respondents' Capital and Start-Up Costs: $0.

Estimated Total Annual Cost to the Federal Government: $20,801,492.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-27121 Filed 12-8-23; 8:45 am]

BILLING CODE 9111-BW-P